DEPARTMENT OF TRANSPORTATION

Federal Aviation Administration

[Summary Notice No. PE-2009-07]

Petitions for Exemption; Summaries of Petitions Received

AGENCY: Federal Aviation Administration (FAA), DOT.

ACTION: Notice of petitions for exemption received.

SUMMARY: This notice contains summaries of two petitions seeking relief from specified requirements of 14 CFR. The purpose of this notice is to improve the public's awareness of, and participation in, this aspect of FAA's regulatory activities. Neither publication of this notice nor the inclusion or omission of information in the summaries is intended to affect the legal status of the petitions or their final dispositions.

DATES: Comments on these petitions must identify the petition docket number involved and must be received on or before January 20, 2009.

ADDRESSES: You may send comments identified by Docket Number FAA-2008-0799 or Docket Number FAA-2008-0800 using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Annette K. Kovite, ANM-113, Transport Airplane Directorate, 1601 Lind Avenue, SW., Renton, WA 98055-4056, phone-425-227-1262, e-mail-Annette.Kovite@faa.gov.

This notice is published pursuant to 14 CFR 11.85.

Issued in Washington, DC, on January 13, 2009.
Pamela Hamilton-Powell,
Director, Office of Rulemaking.

Petition for Exemption

Docket No.: FAA-2008-0799.

Petitioner: The Boeing Company.

Sections of 14 CFR Affected: §§ 26.47 and 26.49.

Description of Relief Sought: Exemption from the damage tolerance data requirements of §§ 26.47 and 26.49 for alterations and repairs to alterations. The exemption requested is for certain supplemental type certificates installed on Boeing Model 747 and 757 military commercial derivative airplanes.

Petition for Exemption

Docket No.: FAA-2008-0800.

Petitioner: The Boeing Company.

Sections of 14 CFR Affected: §§ 26.47 and 26.49.

Description of Relief Sought: Exemption from the damage tolerance data requirements of §§ 26.47 and 26.49 for alterations and repairs to alterations. The exemption requested is for certain supplemental type certificates installed on the following military airplanes: Boeing Models 737-2NI, 767-27C, 767-2FK, and 767-2EY.

[FR Doc. E9-865 Filed 1-15-09; 8:45 am]

BILLING CODE 4910-13-P